DEPARTMENT OF ENERGY

Federal Energy Regulatory Commission

[Project Nos. 12606-000 and 2545-091]

Post Falls Hydroelectric Project; Spokane River Developments Project; Avista Corporation; Spokane, WA; Notice of Availability of the Draft Enivironmental Impact Statement for the Spokane River Developments and Post Falls Hydroelectric Projects

December 28, 2006.

In accordance with the National Environmental Policy Act of 1969 and the Federal Energy Regulatory Commission (Commission or FERC) regulations contained in the Code of Federal Regulations (CFR) (18 CFR Part 380 [FERC Order No. 486, 52 FR 47897]) the Office of Energy Projects staff (staff) reviewed the applications for New Major Licenses for the Spokane River Hydroelectric Project and Post Falls Project. Staff prepared a draft environmental impact statement (DEIS) for the projects which are located on the Spokane River, Washington.

The DEIS contains staff's analysis of the potential environmental effects of the projects and concludes that licensing the projects, with staff's recommended measures, would not constitute a major Federal action significantly affecting the quality of the human environment. Copies of the DEIS have been sent to Federal, state, and local agencies; public interest groups; and individuals on the Commission's mailing list.

A copy of the DEIS is available for review at the Commission's Public Reference Room or may be viewed on the Commission's Web site at http://www.ferc.gov using the “e-Library” link. Enter the docket number (P-2545) or (P-12606), to access the document. For assistance, contact FERC Online Support at FERCOnlineSupport@ferc.gov or toll-free at (866) 208-2376, or for TTY, contact (202) 502-8659.

Comments should be filed with Magalie R. Salas, Secretary, Federal Energy Regulatory Commission, 888 First Street, NE., Washington, DC 20426. All comments must be filed by March 6, 2007, and should reference Project Nos. 2545-091 and 12606-000. Comments may be filed electronically via the Internet in lieu of paper. The Commission strongly encourages electronic filings. See 18 CFR 385.2001(a)(1)(iii) and instructions on the Commission's Web site at http://www.ferc.gov under the eLibrary link.

In addition to or in lieu of sending written comments, you are invited to attend a public meeting; time and location of the meeting to be announced in a separate notice. At the meeting, resource agency personnel and other interested persons will have the opportunity to provide oral and written comments and recommendations regarding the draft EIS. The meeting will be recorded by a court reporter, and all statements (verbal and written) will become part of the Commission's public record for the project.

For further information, please contact: John Blair at (202) 502-6092 or at john.blair@ferc.gov.

Magalie R. Salas,
Secretary.

[FR Doc. E6-22678 Filed 1-5-07; 8:45 am]

BILLING CODE 6717-01-P